DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Girija Dasmahapatra, Ph.D., Virginia Commonwealth University: Based on the report of an inquiry conducted by Virginia Commonwealth University (VCU), the willingness of the Respondent to settle this matter, and analysis conducted by ORI in its oversight review, ORI found that Dr. Girija Dasmahapatra, former Instructor, Department of Internal Medicine, VCU, engaged in research misconduct in research supported by National Cancer Institute (NCI), National Institutes of Health (NIH), grants R01 CA063753, R01 CA093738, and R01 CA100866.

ORI found that false data were included in the following eleven (11) publications:

• Blood 107:232-40, 2006 Jan (hereafter referred to as “Blood 2006”)

• Blood 115:4478-87, 2010 Jun 3 (hereafter referred to as “Blood 2010”)

• British Journal of Haematology 161:43-56, 2013 Apr (hereafter referred to as “BJH 2013”)

• Cancer Biology & Therapy 8:808-19, 2009 May (hereafter referred to as “CBT 2009”)

• Clinical Cancer Research 13:4280-90, 2007 Jul (hereafter referred to as “CCR 2007”)

• Leukemia 19:1579-89, 2005 Sep (hereafter referred to as “Leuk 2005”)

• Leukemia Research 30:1263-1272, 2006 (hereafter referred to as “LR 2006”)

• Molecular Cancer Therapeutics 10:1686-97, 2011 Sep (hereafter referred to as “MCT 2011”)

• Molecular Cancer Therapeutics 11:1122-32, 2012 May (hereafter referred to as “MCT 2012”)

• Molecular Cancer Therapeutics 13:2886-97, 2014 Dec (hereafter referred to as “MCT 2014”)

• Molecular Pharmacology 69:288-98, 2006 Jan (hereafter referred to as “MP 2006”)

ORI found that Respondent falsified and/or fabricated data by reporting the results of Western blot experiments and mouse imaging experiments that examined interactions between multiple histone deacetylase and/or proteasome inhibitors in several cancer models. Specifically, Respondent duplicated, reused, and/or relabeled Western blot panels and mouse images and claimed they represented different controls and/or experimental results in:

• Blood 2006, Figures 2A and 2B (Tubulin), 2C (c-Jun & Tubulin), and 3E and 3F (Tubulin)

• Blood 2010, Figures 4A and 4C (JNK & Tubulin)

• BJH 2013, Figures 2A and 6B (Tubulin)

• CBT 2009, Figure 4B (Actin)

• CCR 2007, Figures 3B (PARP) and 6A (Tubulin)

• Leuk 2005, Figures 3B (PARP CF) and 4A, 4B, and 4C (Tubulin)

• LR 2006, Figure 3D (Actin—BaF/3-WT)

• MCT 2011, Figures 2B and 3D (Tubulin) and 6B (0 d—CFZ-2.0mg/Kg & 12 d—CFZ + VOR)

• MCT 2012, Figures 3A (JNK & Tubulin, 3B (Tubulin—scram), 3D (Tubulin—pUSE-AKT cl.3), and 6B (CFZ + obato)

• MCT 2014, Figures 3A (JNK 1 & Tubulin), 3B (JNK & Tubulin), and 3C (Tubulin)

• MP 2006, Figures 1D and 1E (Caspase 3, CF Caspase 3, PARP & Tubulin), 2C (PARP), 3B, 4A, and 4B (Tubulin), 6A (Tubulin—U937-pSFFv 12 hr treatment & U937-Bcl-2-ΔN 24 hr treatment), and 9A (Cox-IV)

Dr. Dasmahapatra has entered into a Voluntary Exclusion Agreement (Agreement) and has voluntarily agreed:

(1) To exclude himself for a period of three (3) years from the effective date of the Agreement from any contracting or subcontracting with any agency of the United States Government and from eligibility or involvement in nonprocurement programs of the United States Government referred to as “covered transactions” pursuant to HHS' Implementation (2 CFR part 376 et seq) of OMB Guidelines to Agencies on Governmentwide Debarment and Suspension, 2 CFR part 180 (collectively the “Debarment Regulations”);

(2) To exclude himself from serving in any advisory capacity to PHS including, but not limited to, service on any PHS advisory committee, board, and/or peer review committee, or as a consultant for period of three (3) years, beginning on November 5, 2015; and

(3) That the following publications will be retracted or corrected: Blood 2006, Blood 2010, BJH 2013, CBT 2009, CCR 2007, Leuk 2005, LR 2006, MCT 2011, MCT 2012, MCT 2014, and MP 2006.

FOR FURTHER INFORMATION CONTACT: Acting Director, Division of Investigative Oversight, Office of Research Integrity, 1101 Wootton Parkway, Suite 750, Rockville, MD 20852, (240) 453-8200.

Donald Wright,
Acting Director, Office of Research Integrity.

[FR Doc. 2015-31057 Filed 12-9-15; 8:45 am]

BILLING CODE 4150-31-P